NATIONAL SCIENCE FOUNDATION

Sunshine Act Meetings

The National Science Board (NSB) hereby gives notice of the scheduling of a meeting of the ad hoc Elections Committee of the National Science Board for the transaction of National Science Board business pursuant to the NSF Act and the Government in the Sunshine Act.

TIME AND DATE: The NSB Elections Committee meeting is scheduled for Wednesday, April 16, 2025, at 1:00 p.m. Eastern.

PLACE: The meeting of the NSB Elections Committee will be held via video conference through the National Science Foundation, 2415 Eisenhower Avenue, Alexandria, VA 22314.

STATUS: Closed.

MATTERS TO BE CONSIDERED: The agenda is: Chair's Opening Remarks; discussion of process to build a slate of Nominees for the NSB Chair position to replace current NSB Chair through May 2026; and assign tasks and determine next steps.

CONTACT PERSON FOR MORE INFORMATION: Point of contact for this meeting is: Chris Blair, cblair@nsf.gov, 703/292-7000. Meeting information and updates may be found at www.nsf.gov/nsb.

Ann Bushmiller,
Senior Counsel to the National Science Board.

[FR Doc. 2025-06429 Filed 4-11-25; 11:15 am]

BILLING CODE 7555-01-P